DEPARTMENT OF COMMERCE

International Trade Administration

Notice of Scope Rulings

AGENCY: Enforcement and Compliance, International Trade Administration, Department of Commerce.

DATES: Applicable February 12, 2020.

SUMMARY: The Department of Commerce (Commerce) hereby publishes a list of scope rulings and anti-circumvention determinations made during the period July 1, 2019 through September 30, 2019. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce's regulations provide that it will publish in the Federal Register a list of scope rulings on a quarterly basis.¹ Our most recent notification of scope rulings was published on January 16, 2020.² This current notice covers all scope rulings and anti-circumvention determinations made by Enforcement and Compliance between July 1, 2019 through September 30, 2019.

¹ See 19 CFR 351.225(o).

² See Notice of Scope Rulings, 85 FR 2712 (Jan. 16, 2020).

Scope Rulings Made July 1, 2019 through September 30, 2019:

Mexico

A-201-845 and C-201-846: Sugar From Mexico

Requestor: Batory Foods, Inc., and Rafi Industries, Inc. U.S.-origin “standard sugar” with sucrose/polarity content equal to or higher than 99.4, a maximum moisture content of 0.06 percent, and a maximum color of 600; and U.S.-origin “refined sugar” with a sucrose/polarity content of at least 99.85, sediment of 3 ppm max, and a moisture content of 0.04 percent max, which are repackaged in Mexico into four ply, fifty-pound-capacity kraft paper bags (41.7145 inches by 30.50 inches) and 2,500-pound-capacity polypropylene `supersacks' (50 inches in height, with a front panel measuring 37 inches and a side panel measuring 37 inches), imported by Rafi Industries, Inc., are not within the scope of the Agreements Suspending the Antidumping and Countervailing Duty Investigations on Sugar from Mexico (A-201-845 and C-201-846) because the repackaging operations in Mexico do not substantially transform the products and, thus, do not alter their country of origin; September 3, 2019.

People's Republic of China (China)

A-570-914 and C-570-915: Light-Walled Rectangular Pipe and Tube From the People's Republic of China

Requestor: Carlson AirFlo Merchandising Systems; certain finished components of refrigerated merchandising and display structures imported from China with part numbers R10447, and 250355 are outside the scope of the antidumping duty orders; September 11, 2019.

A-570-601: Tapered Roller Bearings From the People's Republic of China

Requestor: WorldPac Inc.; Based on our analysis of the scope language of the order, the comments received, and a substantial transformation analysis, we determined that WorldPac's wheel hub assembly, consisting of a Chinese tapered roller bearing (TRB) set, a Polish TRB set, a German wheel hub, and a non-Chinese origin shaft seal with anti-lock brake (ABS) sensors ring, produced in Germany is not covered by the scope of the order; September 11, 2019.

A-570-909: Certain Steel Nails From the People's Republic of China

Requestor: Simpson Strong-Tie Company. Pursuant to the Court of International Trade's remand order, zinc and nylon anchors are not “nails,” and, therefore, are not covered by the scope of the antidumping duty order on certain steel nails from China. See Simpson Strong-Tie Company, v. United States, Court No. 17-00057, Slip Op. 19-93 (CIT 2019); see also Certain Steel Nails from the People's Republic of China: Notice of Court Decision Not in Harmony with Final Scope Ruling and Notice of Amended Final Scope Ruling Pursuant to Court Decision, 84 FR 49094 (September 18, 2019).

Republic of Korea

A-580-870: Certain Oil Country Tubular Goods From the Republic of Korea

Commerce clarifies ³ that the scope of the Order ⁴ pertains solely to products which are capable of being employed for “down hole” use in oil and gas wells; or, in the specific case of green tubes, products which are capable of (and clearly intended for) further processing which will make them capable of being employed for “down hole” use in oil and gas wells. Commerce further clarifies that products which are incapable (even when further processed) of being employed for “down hole” use in oil and gas wells are not covered by the scope of the Order; July 5, 2019.

³ See Memorandum, “Section 129 Proceeding (WTO DS488): Antidumping Duty Investigation of Certain Oil Country Tubular Goods from the Republic of Korea—Decision Memorandum for Final Determination,” dated July 5, 2019.

⁴ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (the Order); see also Certain Oil Country Tubular Goods from India, the Republic of Korea, Taiwan, the Republic of Turkey, and the Socialist Republic of Vietnam: Notice of Correction to the Antidumping Duty Orders with Respect to Turkey and the Socialist Republic of Vietnam, 79 FR 59740 (October 3, 2014) (correcting page numbers cited in the Order).

Thailand

A-549-502: Circular Welded Carbon Steel Pipes and Tubes From Thailand

Requestor: MB Metals, Inc. Fire protection/sprinkler pipes are covered by the scope of the antidumping duty order on circular welded carbon steel pipes and tubes from Thailand, because standard pipes can be designed to carry water/liquid and can be produced to meet various ASTM standards and requirements; July 25, 2019.

Anti-Circumvention Determinations Made July 1, 2019 through September 30, 2019:

People's Republic of China

A-570-900: Diamond Sawblades and Parts Thereof From the People's Republic of China

Requestor: Diamond Sawblades Manufacturers' Coalition; diamond sawblades made with Chinese cores and Chinese segments in Thailand by Diamond Tools Technology (Thailand) Co., Ltd., and exported from Thailand to the United States are within the scope of the antidumping duty order; diamond sawblades made with: (1) Chinese cores and Thai Segments; or (2) Thai cores and Chinese segments, in Thailand by Diamond Tools Technology (Thailand) Co., Ltd., and exported from Thailand to the United States are outside the scope of the antidumping duty order; July 10, 2019.

A-570-967 and C-570-968: Aluminum Extrusions From the People's Republic of China

Requestor: Aluminum Extrusions Fair Trade Committee. Aluminum Extrusions exported from Vietnam, that are produced from aluminum previously extruded in China, are circumventing the antidumping and countervailing duty orders on aluminum extrusions from China; August 12, 2019.

Notification to Interested Parties

Interested parties are invited to comment on the completeness of this list of completed scope inquiries and anti-circumvention determinations made during the period July 1, 2019 through September 30, 2019. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: February 6, 2020.
James Maeder,
Deputy Assistant Secretary for Antidumping and Countervailing Duty Operations.

[FR Doc. 2020-02776 Filed 2-11-20; 8:45 am]

BILLING CODE 3510-DS-P